DEPARTMENT OF COMMERCE

International Trade Administration

[C-580-602]

Continuation of Countervailing Duty Order: Top-of-the-Stove Stainless Steel Cookware from South Korea

AGENCY: Import Administration, International Trade Administration, Department of Commerce.

SUMMARY: As a result of the determinations by the Department of Commerce (“the Department”) and the International Trade Commission (“ITC”) that revocation of the countervailing duty (“CVD”) order on top-of-the-stove stainless steel cookware (“TOS cookware”) from South Korea (“Korea”) would likely lead to continuation or recurrence of dumping and material injury to an industry in the United States, the Department is publishing this notice of continuation of the CVD order.

EFFECTIVE DATE: November 22, 2005.

FOR FURTHER INFORMATION CONTACT: Darla Brown or David Goldberger, AD/CVD Operations, Import Administration, International Trade Administration, U.S. Department of Commerce, 14th Street & Constitution Avenue NW., Washington, DC 20230; telephone: (202) 482-2849 or (202) 482-4136, respectively.

SUPPLEMENTARY INFORMATION:

Background

On March 1, 2005, the Department initiated and the ITC instituted a sunset review of the CVD order on TOS cookware from Korea pursuant to sections 751(c) and 752 of the Act, respectively. See Notice of Initiation of Five-year (“Sunset”) Reviews, 70 FR 9919 (March 1, 2005). As a result of its review, the Department found the revocation of the CVD order would be likely to lead to continuation or recurrence of a countervailable subsidy and notified the ITC of the subsidy rate likely to prevail were the order to be revoked. See Final Results of Expedited Sunset Review of Countervailing Duty Order: Top-of-the-Stove Stainless Steel Cookware from South Korea, 70 FR 57856 (October 4, 2005).

On November 8, 2005, the ITC determined that revocation of the CVD order on TOS cookware from Korea would be likely to lead to continuation or recurrence of material injury within a reasonably foreseeable time. See Porcelain-on-Steel Cooking Ware From China and Taiwan; Top-of-the-Stove Stainless Steel Cooking Ware From Korea and Taiwan, 70 FR 67740 (November 8, 2005) and USITC Publication 3808 (October 2005), entitled Porcelain-on-Steel Cooking Ware From China and Taiwan, and Top-of-the-Stove Stainless Steel Cooking Ware From Korea and Taiwan (Investigation Nos. 731-TA-298 and 299 (Second Review) and Investigation Nos. 701-TA-267 and 268 and 731-TA-304 and 305 (Second Review)).

Scope of the Order

The merchandise subject to this CVD order is TOS stainless steel cookware from Korea. The subject merchandise is all non-electric cooking ware of stainless steel which may have one or more layers of aluminum, copper or carbon steel for more even heat distribution. The subject merchandise includes skillets, frying pans, omelette pans, saucepans, double boilers, stock pots, dutch ovens, casseroles, steamers, and other stainless steel vessels, all for cooking on stove top burners, except tea kettles and fish poachers.

Excluded from the scope of the order are stainless steel oven ware and stainless steel kitchen ware. Certain stainless steel pasta and steamer inserts and certain stainless steel eight-cup coffee percolators are within the scope (63 FR 41545 (August 4, 1998) and 58 FR 11209 (February 24, 1993), respectively).

Moreover, as a result of a changed circumstances review, the Department revoked the order in part with regards to certain stainless steel camping ware that: (1) is made of single-ply stainless steel having a thickness no greater than 6.0 millimeters; and (2) consists of 1.0, 1.5, and 2.0 quart saucepans without handles and with lids that also serve as fry pans (62 FR 32767, June 17, 1997).

TOS cookware is currently classifiable under Harmonized Tariff Schedule (“HTS”) item numbers 7323.93.00 and 9604.00.00. The HTS item numbers are provided for convenience and customs purposes only. The written description remains dispositive.

Determination

As a result of the determinations by the Department and the ITC that revocation of this CVD order would be likely to lead to continuation or recurrence of a countervailable subsidy and material injury to an industry in the United States, pursuant to section 751(d)(2) of the Act, the Department hereby orders the continuation of the CVD order on TOS cookware from Korea. U.S. Customs and Border Protection will continue to collect cash deposits at the rates in effect at the time of entry for all imports of subject merchandise. The effective date of continuation of this order will be the date of publication in the Federal Register of this Notice of Continuation.

Pursuant to sections 751(c)(2) and 751(c)(6) of the Act, the Department intends to initiate the next five-year review of this order not later than October 2010.

This five -year (sunset) review and notice are in accordance with section 751(c) of the Act and published pursuant to section 771(i)(1) of the Act.

Dated: November 15, 2005.
Joseph A. Spetrini,
Acting Assistant Secretary for Import Administration.

[FR Doc. E5-6444 Filed 11-21-05; 8:45 am]

BILLING CODE 3510-DS-S